ENVIRONMENTAL PROTECTION AGENCY

[EPA-HQ-OGC-2024-0391; FRL-12178-01-OGC]

Proposed Partial Settlement Agreement and Consent Decree, Claim Regarding Implementation of Endocrine Disruptor Screening Program Under the Section 408(p) of the Federal Food, Drug, and Cosmetic Act (FFDCA)

AGENCY: Environmental Protection Agency (EPA).

ACTION: Notice of proposed partial settlement agreement and partial consent decree; request for public comment.

SUMMARY: Notice is given of a proposed partial settlement agreement and consent decree to address Alianza Nacional de Campesinas, et al. v. U.S. Environmental Protection Agency, et al., a case in the United States District Court for the Northern District of California (4:22-cv-9030) that alleges that Environmental Protection Agency (EPA) violated the Federal Food, Drug, and Cosmetic Act (“FFDCA”), with respect to actions or omissions concerning EPA's implementation of the Endocrine Disruptor Screening Program (“EDSP”), including the testing of pesticide chemicals for estrogen, androgen, and thyroid effects, and that such alleged violation is actionable under the Administrative Procedure Act. EPA is providing notice of the proposed partial settlement agreement and partial consent decree, which would resolve all claims in both cases by establishing commitments and/or deadlines for EPA to take specified actions.

DATES: Written comments on the proposed consent decree must be received by November 12, 2024.

ADDRESSES: Submit your comments, identified by Docket ID No. EPA-HQ-OGC-2024-0391 online at https://www.regulations.gov (EPA's preferred method). Follow the online instructions for submitting comments.

Instructions: All submissions received must include the Docket ID number for this action. Comments received may be posted without change to https://www.regulations.gov, including any personal information provided. For detailed instructions on sending comments, see the “Additional Information about Commenting on the Proposed Consent Decree” heading under the SUPPLEMENTARY INFORMATION section of this document.

FOR FURTHER INFORMATION CONTACT: Amber Aranda, Pesticides and Toxic Substances Law Office; telephone (202) 564-1737; email address aranda.amber@epa.gov.

SUPPLEMENTARY INFORMATION:

I. Obtaining a Copy of the Proposed Partial Settlement Agreement and/or Partial Consent Decree

The official public docket for this action (identified by Docket ID No. EPA-HQ-OGC-2024-0391) contains a copy of the proposed partial settlement agreement and partial consent decree. The official public docket is available for public viewing at the Office of Environmental Information (OEI) Docket in the EPA Docket Center, EPA West, Room 3334, 1301 Constitution Ave. NW, Washington, DC. The EPA Docket Center Public Reading Room is open from 8:30 a.m. to 4:30 p.m., Monday through Friday, excluding legal holidays. The telephone number for the Public Reading Room is (202) 566-1744, and the telephone number for the OEI Docket is (202) 566-1752.

The electronic version of the public docket for this action contains a copy of the proposed partial settlement agreement and partial consent decree and both are available through https://www.regulations.gov. You may use https://www.regulations.gov to submit or view public comments, access the index listing of the contents of the official public docket, and access those documents in the public docket that are available electronically. Once in the system, key in the appropriate docket identification number then select “search.”

II. Additional Information About Commenting on the Proposed Consent Decree

Submit your comments, identified by Docket ID No. EPA-HQ-OGC-2024-0391 via https://www.regulations.gov. Once submitted, comments cannot be edited or removed from this docket. EPA may publish any comment received to its public docket. Do not submit to EPA's docket at https://www.regulations.gov any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit https://www.epa.gov/dockets/commenting-epa-dockets. For additional information about submitting information identified as CBI, please contact the person listed in the FOR FURTHER INFORMATION CONTACT section of this document.

If you submit an electronic comment, EPA recommends that you include your name, mailing address, and an email address or other contact information in the body of your comment. This ensures that you can be identified as the submitter of the comment and allows EPA to contact you in case EPA cannot read your comment due to technical difficulties or needs further information on the substance of your comment. Any identifying or contact information provided in the body of a comment will be included as part of the comment that is placed in the official public docket and made available in EPA's electronic public docket. If EPA cannot read your comment due to technical difficulties and cannot contact you for clarification, EPA may not be able to consider your comment.

Use of the https://www.regulations.gov website to submit comments to EPA electronically is EPA's preferred method for receiving comments. The electronic public docket system is an “anonymous access” system, which means EPA will not know your identity, email address, or other contact information unless you provide it in the body of your comment.

Please ensure that your comments are submitted within the specified comment period. Comments received after the close of the comment period will be marked “late.” EPA is not required to consider these late comments.

Dated: October 8, 2024.
Randolph L. Hill,
Associate General Counsel.

[FR Doc. 2024-23633 Filed 10-10-24; 8:45 am]

BILLING CODE 6560-50-P